DEPARTMENT OF ENERGY

Federal Energy Regulatory Commission

Combined Notice of Filings #2

Take notice that the Commission received the following electric rate filings:

Docket Numbers: ER15-623-004.

Applicants: PJM Interconnection, L.L.C.

Description: Compliance filing: Compliance Filing pursuant to the June 9, 2015 Order on Proposed Tariff Rev to be effective 4/1/2015.

Filed Date: 7/9/15.

Accession Number: 20150709-5186.

Comments Due: 5 p.m. ET 7/30/15.

Docket Numbers: ER15-2144-000.

Applicants: Michigan Electric Transmission Company, LLC

Description: § 205(d) Rate Filing: Filing of Fiber License Agreement to be effective 9/8/2015.

Filed Date: 7/9/15.

Accession Number: 20150709-5156.

Comments Due: 5 p.m. ET 7/30/15.

Docket Numbers: ER15-2145-000.

Applicants: Midcontinent Independent System Operator, Inc.

Description: § 205(d) Rate Filing: 2015-07-09_Schedule 43H Revision White Pine 1 SSR to be effective 4/16/2015.

Filed Date: 7/9/15.

Accession Number: 20150709-5189.

Comments Due: 5 p.m. ET 7/30/15.

Take notice that the Commission received the following public utility holding company filings:

Docket Numbers: PH15-16-000.

Applicants: Cross & Company, PLLC.

Description: Gas Natural, Inc. submits FERC 65-B Notification of Change in Exemption Notification.

Filed Date: 7/9/15.

Accession Number: 20150709-5197.

Comments Due: 5 p.m. ET 7/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2015.
Nathaniel J. Davis, Sr.,
Deputy Secretary.

[FR Doc. 2015-17352 Filed 7-14-15; 8:45 am]

BILLING CODE 6717-01-P